INTERNATIONAL TRADE COMMISSION

[Investigation No. 337-TA-1130]

Certain Beverage Dispensing Systems and Components Thereof; Commission Decision To Institute a Rescission Proceeding and To Grant a Petition for Rescission of a Limited Exclusion Order and a Cease and Desist Order; Rescission of a Limited Exclusion Order and a Cease and Desist Order; Termination of Rescission Proceeding

AGENCY: U.S. International Trade Commission.

ACTION: Notice.

SUMMARY: Notice is hereby given that the U.S. International Trade Commission (“Commission”) has determined to institute a rescission proceeding in the above-captioned investigation and to grant a joint motion for rescission of the limited exclusion order (“LEO”) and the cease and desist order (“CDO”) previously issued in the investigation. The LEO and CDO are rescinded and the rescission proceeding is terminated.

FOR FURTHER INFORMATION CONTACT: Sidney A. Rosenzweig, Esq., Office of the General Counsel, U.S. International Trade Commission, 500 E Street SW, Washington, DC 20436, telephone (202) 708-2532. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on September 5, 2018, based on a complaint filed by Heineken International B.V. and Heineken Supply Chain B.V., both of Amsterdam, The Netherlands; and Heineken USA Inc. of White Plains, New York (collectively, “Heineken”). 83 FR 45141, 45141-42 (Sept. 5, 2018). The complaint alleges a violation section 337 of the Tariff Act 1930, as amended, 19 U.S.C. 1337 (“section 337”) in the importation into the United States, sale for importation, or sale in the United States after importation of certain beverage dispensing systems and components thereof that allegedly infringe claims 1-11 of U.S. Patent No. 7,188,751 (“the '751 patent”). Id. The notice of investigation names as respondents Anheuser-Busch InBev SA, and InBev Belgium NV both of Leuven, Belgium; and Anheuser-Busch, LLC of St. Louis, Missouri (collectively, “ABI”). Id. The Office of Unfair Import Investigations was not named as a party to this investigation. Id.

On March 11, 2020, the Commission terminated the investigation with a finding of violation of section 337 as to claims 1, 3, 7, and 10 of the '751 patent. 85 FR 15223, 15224 (Mar. 17, 2020). The Commission issued an LEO prohibiting the entry of infringing beverage dispensing systems and components thereof and a CDO directed to respondent Anheuser-Busch LLC. Id.

On May 4, 2020, Heineken and ABI filed a joint petition to rescind the limited exclusion order and the cease and desist order based on a settlement agreement. The petition contains confidential and non-confidential versions of the Global Settlement Agreement between the parties. On May 26, 2020, the parties supplemented their petition to state that there are no other agreements, written or oral, express or implied between the parties concerning the subject matter of the investigation. See 19 CFR 210.76(a)(3).

Having reviewed the petition, as supplemented, and determined that it complies with Commission rules, the Commission has determined to institute a rescission proceeding and to grant the petition. The LEO and the CDO are hereby rescinded.

The rescission proceeding is terminated.

The Commission vote for this determination took place on June 3, 2020.

The authority for the Commission's determination is contained in section 337 of the Tariff Act of 1930, as amended (19 U.S.C. 1337), and in part 210 of the Commission's Rules of Practice and Procedure (19 CFR part 210).

By order of the Commission.
Issued: June 3, 2020.
Lisa Barton,
Secretary to the Commission.

[FR Doc. 2020-12362 Filed 6-5-20; 8:45 am]

BILLING CODE 7020-02-P